DEPARTMENT OF TRANSPORTATION

[STB Finance Docket No. 34204]

South Kansas and Oklahoma Railroad Company—Lease Exemption—The Burlington Northern and Santa Fe Railway Company

South Kansas and Oklahoma Railroad Company (SKO), a Class III rail carrier, has filed a verified notice of exemption under 49 CFR 1150.41 to lease from The Burlington Northern and Santa Fe Railway Company (BNSF) 6.22 miles of rail line located between milepost 139.10 near Pittsburg, KS, and milepost 145.32, near Cherokee, KS. SKO will be the operator of the property.

Because SKO's projected annual revenues will exceed $5 million, SKO certified to the Board on May 3, 2002, that it sent the required notice of the transaction to the national offices of all labor unions representing employees on the line and posted a copy of the notice at the workplace of the employees on the affected lines on April 25, 2002. See 49 CFR 1150.42(e).

The transaction was scheduled to be consummated on or shortly after July 2, 2002 (60 days after SKO's certification to the Board that it had complied with the Board's rule at 49 CFR 1150.42(e)).

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34204, must be filed with the Surface Transportation Board, 1925 K Street, NW., Washington, DC 20423-0001. In addition, a copy of the each pleading must be served on Karl Morell, Ball Janik LLP, Suite 225, 1455 F Street, NW., Washington, DC 20005.

Board decisions and notices are available on our website at “www.stb.dot.gov.”

Decided: July 16, 2002.
By the Board, David M. Konschnik, Director, Office of Proceedings.
Vernon A. Williams,
Secretary.

[FR Doc. 02-18438 Filed 7-23-02; 8:45 am]

BILLING CODE 4915-00-P